FEDERAL RESERVE SYSTEM

Agency Information Collection Activities: Announcement of Board Approval Under Delegated Authority and Submission to OMB

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Report

1. Report title: The Daily Report of Dealer Activity in Treasury Financing.

Agency form number: FR 2004WI.

OMB Control number: 7100-0003.

Frequency: Daily.

Reporters: Primary dealers in the U.S. government securities market.

Annual reporting hours: 4,640 hours.

Estimated average hours per response: 1 hour.

Number of respondents: 29 dealers.

Small businesses are affected.

General description of report: This information collection is voluntary (12 U.S.C. 248(a)(2), 353-359, and 461(c)). Completing the FR 2004 reports by nondepository institutions is not a mandatory obligation, and it may be deemed to be voluntary; however, it is required to be completed by those nondepository institution dealers who desire to be primary dealers. Individual respondent data are regarded as confidential under the Freedom of Information Act (5 U.S.C. 552 (b)(4)).

Abstract: The FR 2004WI collects daily information on a next-business-day basis on positions in to-be-issued Treasury coupon securities, mainly the trading on a when-issued delivery basis.

Final Approval Under OMB Delegated Authority of the Extension for Three Years, With Revision, of the Following Report

1. Report title: The Government Securities Dealers Reports: The Weekly Report of Dealer Positions (FR 2004A), The Weekly Report of Cumulative Dealer Transactions (FR 2004B), The Weekly Report of Dealer Financing and Fails (FR 2004C), and The Weekly Report of Specific Issues (FR 2004SI).

Agency form number: FR 2004.

OMB control number: 7100-0003.

Frequency: Weekly.

Reporters: Primary dealers in the U.S. government securities market.

Annual reporting hours: 14,239 hours.

Estimated average hours per response: FR 2004A, 1.5 hours; FR 2004B, 2 hours; FR 2004 C 1.5 hours; FR 2004SI, 3 hours.

Number of respondents: 29 dealers.

Small businesses are affected.

General description of report: This information collection is voluntary (12 U.S.C. 248(a)(2), 353-359, and 461(c)). Completing the FR 2004 reports by nondepository institutions is not a mandatory obligation, and it may be deemed to be voluntary; however, it is required to be completed by those nondepository institution dealers who desire to be primary dealers. Individual respondent data are regarded as confidential under the Freedom of Information Act (5 U.S.C. 552(b)(4)).

Abstract: The FR 2004A collects data as of Wednesday of each week on dealers' outright positions in Treasury and other marketable debt securities as well as their positions in futures and options on underlying marketable debt securities. The FR 2004B collects data cumulated for the week ended Wednesday on the volume of transactions made by dealers in the same instruments for which positions are reported on the FR 2004A. The FR 2004C collects data as of Wednesday of each week on the amounts of dealer financing and fails. The FR 2004SI collects data as of Wednesday of each week on outright, financing, options, and fails positions in current or on-the-run issues. Under certain circumstances FR 2004SI data can also be collected on a daily basis for on-the-run and off-the-run securities.

Current actions: The Board has approved several revisions to the reports to address changes in the market conditions. Futures and options data are being deleted from the FR 2004A, B, and SI because few dealers report much activity in this area and these data have proved to be of limited use in market surveillance. Items are being added to the FR 2004A and B to gain a better picture of the corporate securities markets. Items are being consolidated on the FR 2004C because the transactions categories currently reported have not provided significant insight into the functioning of funding markets and, therefore, add reporting burden without adequate benefit. The revised reporting forms will be implemented as of July 4, 2001, and will impose 22 percent less burden on respondents.

Board of Governors of the Federal Reserve System, February 22, 2001.
Jennifer J. Johnson,
Secretary of the Board.

[FR Doc. 01-4821 Filed 2-27-01; 8:45 am]

BILLING CODE 6210-01-P